DEPARTMENT OF HEALTH AND HUMAN SERVICES

Health Resources and Services Administration

Council on Graduate Medical Education; Notice of Meeting

In accordance with section 10(a)(2) of the Federal Advisory Committee Act (Pub. L. 92-463), notice is hereby given of the following meeting:

Name: Council on Graduate Medical Education (COGME).

Date and Time: September 9, 2013 (8:30 a.m.-5:00 p.m.), September 10, 2013 (8:30 a.m.-5:00 p.m.).

Place: Combined In-Person and Webinar Format, Health Resources and Services Administration, U.S. Department of Health and Human Services, 5600 Fishers Lane, Rockville, Maryland 20852, Rooms 18-63.

Status: The meeting will be open to the public.

Purpose: The COGME provides advice and recommendations to the Secretary of the Department of Health and Human Services and to Congress on a range of issues including the supply and distribution of physicians in the United States, current and future physician shortages or excesses, issues relating to foreign medical school graduates, the nature and financing of medical education training, and the development of performance measures and longitudinal evaluation of medical education programs.

Agenda: The meeting will begin with opening comments from the Health Resources and Services Administration (HRSA) senior officials and updates on HRSA-specific programs related to the physician workforce. The Council is expected to hear from subject matter experts on new health care delivery models and their effects on graduate medical education in the future. Subject matter experts will include prominent members of select national physician organizations. In addition, over the course of this two-day meeting, several members of the Council will be providing 15 minute presentations on their personal past experiences pertaining to the topic of medical education and training at service delivery sites.

Public Comment: An opportunity will be provided for public comment at the end of each day of the meeting. The time allotted for the public comment portions of this meeting will be extended in the hope that members of the public with specific knowledge and experiences on the topic of new health care delivery models and their potential effect(s) on graduate medical education in the future will contribute to the discussion. General public comments to the Council will be accepted.

The official agenda will be available two days prior to the meeting on the HRSA Web site (http://www.hrsa.gov/advisorycommittees/bhpradvisory/cogme/index.html). Agenda items are subject to change as priorities dictate.

SUPPLEMENTARY INFORMATION: As this meeting will be a combined format of both in-person and webinar, members of the public and interested parties who wish to participate in-person should make a request by emailing their first name, last name, and full email address to BHPrAdvisoryCommittee@hrsa.gov or by contacting the Designated Federal Official for the Council, Mr. Shane Rogers, at 301-443-5260 or srogers@hrsa.gov by Thursday, September 5, 2013. Due to the fact that this meeting will be held within a federal government building and public entrance to such facilities require prior planning, access will be granted upon request only and will be on a first-come, first-served basis. Space is limited. Members of the public who wish to participate via webinar should view the Council's Web site for the specific webinar access information at least two days prior to the date of the meeting: http://www.hrsa.gov/advisorycommittees/bhpradvisory/cogme/index.html.

FOR FURTHER INFORMATION CONTACT: Anyone requesting information regarding the COGME should contact Mr. Shane Rogers, Designated Federal Official within the Bureau of Health Professions, Health Resources and Services Administration, in one of following three ways: (1) Send a request to the following address: Shane Rogers, Designated Federal Official, Bureau of Health Professions, Health Resources and Services Administration, Parklawn Building, Room 9A-27, 5600 Fishers Lane, Rockville, Maryland 20857; (2) call (301) 443-5260; or (3) send an email to srogers@hrsa.gov.

Dated: August 16, 2013.
Bahar Niakan,
Director, Division of Policy and Information Coordination.

[FR Doc. 2013-20543 Filed 8-22-13; 8:45 am]

BILLING CODE 4165-15-P